DEPARTMENT OF AGRICULTURE

Submission for OMB Review; Comment Request

The Department of Agriculture has submitted the following information collection requirement(s) to OMB for review and clearance under the Paperwork Reduction Act of 1995, Public Law 104-13. Comments are requested regarding; whether the collection of information is necessary for the proper performance of the functions of the agency, including whether the information will have practical utility; the accuracy of the agency's estimate of burden including the validity of the methodology and assumptions used; ways to enhance the quality, utility and clarity of the information to be collected; and ways to minimize the burden of the collection of information on those who are to respond, including through the use of appropriate automated, electronic, mechanical, or other technological collection techniques or other forms of information technology.

Comments regarding this information collection received by July 24, 2025 will be considered. Written comments and recommendations for the proposed information collection should be submitted within 30 days of the publication of this notice on the following website www.reginfo.gov/public/do/PRAMain. Find this particular information collection by selecting “Currently under 30-day Review—Open for Public Comments” or by using the search function.

An agency may not conduct or sponsor a collection of information unless the collection of information displays a currently valid OMB control number and the agency informs potential persons who are to respond to the collection of information that such persons are not required to respond to the collection of information unless it displays a currently valid OMB control number.

Foreign Agricultural Service

Title: Agriculture Wood Apparel Manufacturers Trust Fund.

OMB Control Number: 0551-0045.

Summary of Collection: Section 12603 of the Agriculture Improvement Act of 2018 (the 2018 Farm Bill) reauthorized distributions out of the Agriculture Wool Apparel Manufacturers Trust Fund (“ Agriculture Wool Trust Fund”) in each of calendar years 2019 through 2023, payable to qualifying claimants. Eligible claimants are directed to submit a notarized affidavit, following the statutory procedures specified in the 2018 Farm Bill. FAS must collect the information provided in the affidavits to assess the eligibility of the claimants and correctly calculate the mandated payments.

Need and Use of the Information: Eligible claimants for a distribution from the Agriculture Wool Trust Fund are directed to submit a notarized affidavit, following the statutory procedures specified in the 2018 Farm Bill, to claim a distribution from the Agriculture Wool Trust Fund. The Foreign Agricultural Service will use the information provided in the affidavits to certify the claimants' eligibility and to authorize payment from the Agriculture Wood Trust Fund.

Description of Respondents: Business or other-for-profit.

Number of Respondents: 95.

Frequency of Responses: Record keeping, Reporting: Annually.

Total Burden Hours: 260.

Rachelle Ragland-Greene,
Departmental Information Collection Clearance Officer.

[FR Doc. 2025-11534 Filed 6-23-25; 8:45 am]

BILLING CODE 3410-10-P